DEPARTMENT OF HOMELAND SECURITY

Federal Emergency Management Agency

44 CFR Part 64

[Docket ID FEMA-2011-0020; Internal Agency Docket No. FEMA-8093]

Suspension of Community Eligibility for Repealing Its Floodplain Management Regulations

AGENCY: Federal Emergency Management Agency, DHS.

ACTION: Final rule.

SUMMARY: FEMA is suspending one community because it repealed its floodplain management regulations under the National Flood Insurance Program (NFIP). If documentation is received from the community before the effective suspension date, indicating it has amended its floodplain management regulations in compliance with the NFIP requirements, FEMA will withdraw the suspension by publication in the Federal Register on a subsequent date.

DATES: Effective Dates: The effective date of the community's scheduled suspension is the date listed in the fourth column of the following table.

FOR FURTHER INFORMATION CONTACT: David Stearrett, Mitigation Directorate, 1800 South Bell Street Arlington, VA 20598-3072, (202) 646-2953.

SUPPLEMENTARY INFORMATION: The National Flood Insurance Program (NFIP) enables property owners to purchase flood insurance that is generally not otherwise available. In return, communities agree to adopt and implement local floodplain management regulations that contribute to protecting lives and reducing the risk of property damage from future flooding. Section 1315 of the National Flood Insurance Act of 1968, as amended (42 U.S.C. 4022), prohibits flood insurance coverage authorized under the National Flood Insurance Program (42 U.S.C. 4001-4128) unless an appropriate public body adopts adequate floodplain management measures with effective administration and enforcement processes.

The community listed in this notice no longer complies with the NFIP requirements set forth at 44 CFR part 59 et seq. Under 44 CFR 59.24(d), communities will be suspended from the NFIP for repealing its floodplain management regulations. Accordingly, FEMA is suspending Graham County, North Carolina (“the County”) on the effective date in the fourth column of the table. As of that date, the purchase of new flood insurance policies or the renewal of existing flood insurance policies under the NFIP will no longer be available.

FEMA will not suspend Graham County, however, if the community submits the documentation required under 44 CFR 59.24(d) to show that it has amended its floodplain management regulations to adopt the current effective Flood Insurance Study and Flood Insurance Rate Map dated April 19, 2010. This documentation must be received by FEMA before the actual suspension date. If Graham County successfully demonstrates its compliance with NFIP regulations, FEMA will continue its eligibility for the sale of NFIP insurance. FEMA will then publish in the Federal Register a notice withdrawing the suspension of the community. In the interim, if you wish to determine whether FEMA has suspended the County on the suspension date, please contact the FEMA Region IV office at (770) 220-5414. Additional information may also be found at http://www.fema.gov/plan/prevent/floodplain/nfipkeywords/suspension.shtm.

FEMA identified the special flood hazard areas (SFHAs) in this community by publishing a Flood Insurance Rate Map. The effective date of this map is indicated in the last column of the table. By law, no Federally regulated entity may provide financial assistance for acquisition or construction purposes for property located in a SFHA unless the community in which the property is located is participating in the NFIP (42 U.S.C. 4106(a)). The prohibition against certain types of Federal disaster assistance also becomes effective for Graham County, North Carolina, on the date shown in the fourth column (42 U.S.C. 4106(b)).

The Administrator finds that notice and public comment procedure under 5 U.S.C. 553(b) are impracticable and unnecessary because the community listed in this final rule has been adequately notified. The community received a letter dated August 3, 2011, and a subsequent Suspension Letter. FEMA addressed these notifications to the Chairman of the Graham County Board of Commissioners indicating that we will suspend the County unless the County takes the required corrective actions and remedial measures before the effective suspension date. Because we have made these notifications, this final rule may take effect within less than 30 days.

National Environmental Policy Act. This rule is categorically excluded from the requirements of 44 CFR Part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The community listed no longer complies with the statutory requirements, and after the effective date, flood insurance will no longer be available in the community unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR Part 64 is amended as follows:

PART 64—[AMENDED]

1. The authority citation for part 64 continues to read as follows:

Authority: 42 U.S.C. 4001 et seq., Reorganization Plan No. 3 of 1978, 3 CFR, 1978 Comp., p. 329; E.O. 12127, 44 FR 19367, 3 CFR, 1979 Comp., p. 376.

§ 64.6 [Amended]

2. The tables published under the authority of § 64.6 are amended as follows:

State | Location | Community No. | Date certain Federal assistance no longer available in special flood hazard area and the sale of flood insurance no longer available in the community | Current effective map date
Region IV
North Carolina | Graham, County of | 370105 | February 1, 2012 | April 19, 2010.

(Catalog of Federal Domestic Assistance No. 83.100, “Flood Insurance.”)

Dated: January 4, 2012.
David L. Miller,
Associate Administrator, Federal Insurance and Mitigation Administration, Federal Emergency Management Agency, Department of Homeland Security.

[FR Doc. 2012-489 Filed 1-11-12; 8:45 am]

BILLING CODE 9110-12-P